DEPARTMENT OF HOMELAND SECURITY

Coast Guard

33 CFR Part 117

[Docket No. USCG-2024-0198]

RIN 1625-AA09

Drawbridge Operation Regulation; Atlantic Intracoastal Waterway, Beaufort, SC

AGENCY: Coast Guard, Department of Homeland Security (DHS).

ACTION: Final rule.

SUMMARY: The Coast Guard is modifying the operating schedule that governs the Lady's Island (Woods Memorial) Bridge across the Atlantic Intracoastal Waterway (AICW) (Beaufort River), mile 536.0, at Beaufort, SC. We are modifying the specific requirement for the seasonal operating schedule. This action will assist in reducing vehicular traffic congestion and provide a consistent operating schedule for the bridge.

DATES: This rule is effective June 20, 2025.

ADDRESSES: To view documents mentioned in this preamble as being available in the docket, go to https://www.regulations.gov. Type the docket number (USCG-2024-0198) in the “SEARCH” box and click “SEARCH”. In the Document Type column, select “Supporting & Related Material.”

FOR FURTHER INFORMATION CONTACT: If you have questions on this rule, call or email Ms. Jennifer Zercher, Bridge Management Specialist, Seventh Coast Guard District; telephone 571-607-5951, email Jennifer.N.Zercher@uscg.mil.

SUPPLEMENTARY INFORMATION:

I. Table of Abbreviations

CFR Code of Federal Regulations

DHS Department of Homeland Security

FR Federal Register

OMB Office of Management and Budget

NPRM Notice of proposed rulemaking

§ Section

U.S.C. United States Code

SC South Carolina

SCDOT South Carolina Department of Transportation

TD Temporary Deviation

AICW Atlantic Intracoastal Waterway

II. Background Information and Regulatory History

On March 20, 2024, the Coast Guard published a temporary deviation entitled “Drawbridge Operation Regulation; Atlantic Intracoastal Waterway, Beaufort, SC” in the Federal Register (89 FR 19731). That temporary deviation, effective from 12:01 a.m. on March 25, 2024, through 11:59 p.m. on September 29, 2024, allowed Lady's Island (Woods Memorial) Bridge to operate without a seasonal opening schedule. Fifteen comments were received during the test period and those comments were addressed in the NPRM.

On October 25, 2024, the Coast Guard published a notice of proposed rulemaking entitled “Drawbridge Operation Regulation; Atlantic Intracoastal Waterway, Beaufort, SC” in the Federal Register (89 FR 85117). There we stated why we issued the NPRM, and invited comments on our proposed regulatory action related to this regulatory change. During the comment period that ended December 9, 2024, we received 70 comments, and those comments are addressed in section IV of this final rule.

III. Legal Authority and Need for Rule

The Coast Guard is issuing this rule under authority 33 U.S.C. 499.

Lady's Island (Woods Memorial) Bridge across the Atlantic Intracoastal Waterway (AICW) Beaufort River, mile 536.0, at Beaufort, SC, is a swing bridge with a 30-foot vertical clearance at mean high water in the closed position. The normal operating schedule for the bridge is found in 33 CFR 117.911(f).

SCDOT requested the Coast Guard consider changing the operating schedule for the Lady's Island (Woods Memorial) Bridge by removing the seasonal operating schedule which would align with other drawbridges along the AICW in SC. The change would also extend restrictions during peak traffic hours to assist with alleviating vehicle congestion.

IV. Discussion of Comments, Changes and the Final Rule

The Coast Guard provided a comment period of 45 days on the NPRM, and we received 70 comments. Most of the comments, approximately 47, were in favor of the proposed changes. Some of the commentors in favor of the proposed changes were unaware the swing bridge is currently regulated to allow for scheduled openings to assist with vehicle congestion. Some commenters alluded that the swing bridge opens on demand and it should not open on demand because vehicle traffic is more important. The Coast Guard has the responsibility to ensure the reasonable needs of navigation are maintained while assisting with competing modes of transportation. Some comments also asserted that reducing openings will benefit the aging swing bridge and help with operational integrity. Regardless of the swing bridge's age, SCDOT is required by Federal law to maintain the working machinery in good operating condition. If the swing bridge is experiencing frequent operating failures that result in impacts to navigation, SCDOT would be subject to enforcement proceedings. Specific drawbridge operating schedules are not issued to relieve the owner or operator of the duty to properly maintain or operate the swing span to save wear and tear on the structure or machinery.

Eight comments proposed alternate operating schedules that would not meet the reasonable needs of navigation. The commenters' proposed alternate operating schedules included: no openings from 11 a.m. to 1 p.m. for lunch; the restricted openings should begin at 3 p.m.; no openings for navigation between 8 a.m. to 4:30 p.m.; no openings during school hours, and no openings on Sundays during church hours. These proposed alternate operating schedules do not meet the reasonable needs of navigation and could lead to unsafe conditions for vessels plying these waters. Additionally, there is a high-level fixed bridge, McTeer Bridge, approximately two miles away which provides an alternate route for vehicle traffic. The AICW is a Federal Project Waterway that extends over 1,500 miles from Boston to Florida Bay. It is the main waterway artery for all recreational and commercial traffic that are unable to safely transit offshore.

Nine comments gave no opinion on the proposed rule and provided general comments that were outside the scope of the proposed rule. One comment was a duplicate comment.

Five comments were against the proposed changes. The first comment opposing the proposed change stated that with the drawbridge operation regulation at the Wappoo Creek Bridge, this action will make the transit difficult for boats slower than 10 knots and it will force mariners to transit during the night or offshore when navigation is inherently more dangerous. The distance between these bridges is approximately 65 miles, with planning, mariners should be able to reasonably transit the AICW. Three comments stated they enjoy watching the bridge open, vehicles have an alternate route and feel it does not open frequently. Vehicle traffic does have an alternate route and bridge logs show the bridge opens on average seven times a day which would be considered infrequent. One commentor against the proposed change stated the City of Beaufort had the opportunity to replace the aging bridge but chose to keep it as a designated historical landmark. The choice to keep the low-level swing bridge should not be to the detriment of navigation. As previously stated, SCDOT is required by Federal law to properly maintain the swing bridge regardless of age and provide navigation with openings per Federal regulations.

This rule modifies the operating schedule for the Lady's Island (Woods Memorial) Bridge by removing the seasonal operating schedule and extending restrictions during peak traffic hours to assist with alleviating vehicle congestion. The bridge will continue to open on demand on Saturday, Sunday, Federal holidays, and daily each evening. Monday through Friday the swing bridge will open once an hour as designated and it will be allowed to remain closed to navigation during peak traffic times. Public vessels of the Unites States, vessels in distress, and tugs with tows are allowed to pass at any time. There are no changes from the regulatory text in the proposed rule.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866. Accordingly, it has not been reviewed by the Office of Management and Budget (OMB).

This regulatory action determination is based on the ability that vessels can still transit the bridge at the designated times. Vessels able to transit without a drawbridge opening may do so at any time.

B. Impact on Small Entities

The Regulatory Flexibility Act of 1980 (RFA), 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the bridge may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the National Government and the States, or on the distribution of power and responsibilities among the various levels of government. We have analyzed this rule under that order and have determined that it is consistent with the fundamental federalism principles and preemption requirements described in Executive Order 13132.

Also, this rule does not have Tribal implications under Executive Order 13175, Consultation and Coordination with Indian Tribal Governments, because it does not have a substantial direct effect on one or more Indian Tribes, on the relationship between the Federal Government and Indian Tribes, or on the distribution of power and responsibilities between the Federal Government and Indian Tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Management Directive 023-01, Rev.1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Appendix A, Table 1 of DHS Instruction Manual 023-01-001-01, Rev. 1.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and DHS Delegation No. 00170.1, Revision No. 01.3.

2. Amend § 117.911 by revising paragraph (f) to read as follows:

§ 117.911 Atlantic Intracoastal Waterway, Little River to Savannah River.

* * * * *

(f) Lady's Island (Woods Memorial) Bridge, across the Beaufort River, mile 536.0, at Beaufort, SC. The draw shall operate as follows:

(1) Monday through Friday, except Federal holidays:

(i) From 6 a.m. to 9:29 a.m. and 3:31 p.m. to 7 p.m., the draw need not open to navigation; and,

(ii) Between 9:30 a.m. and 3:30 p.m., the draw need open only once an hour on the half hour.

(2) At all other times the draw shall open on signal.

Dated: May 13, 2025.
Douglas M. Schofield,
Rear Admiral, U.S. Coast Guard, Commander, Coast Guard Seventh District.

[FR Doc. 2025-08990 Filed 5-19-25; 8:45 am]

BILLING CODE 9110-04-P